NUCLEAR REGULATORY COMMISSION

[Docket No. 40-2259]

Final Finding of No Significant Impact for the Proposed Use of Alternate Concentration Limits for Ground Water at Pathfinder Mines Corporation's Lucky MC Site, Gas Hills Region of Wyoming

I. Introduction

The U.S. Nuclear Regulatory Commission (NRC) is considering an amendment of NRC Source Material License SUA-672 to authorize the licensee, Pathfinder Mines Corporation (PMC) to apply Alternate Concentration Limits (ACLs) to licensed constituents of ground water at the Lucky Mc uranium mill tailings site in the Gas Hills region (south central) of Wyoming. PMC submitted, by letter dated December 21, 2000, a license amendment application requesting ALCs for six ground water constituents at their Lucky Mc site. Hills region of The NRC staff submitted a request for additional information by letter dated October 26, 2001, and PMC responded January 11, and November 4, 2002, with application page changes.

An Environmental Assessment (EA) was performed by the NRC staff in support of its review of PMC's license amendment request, in accordance with the requirements of 10 CFR Part 51. The conclusion of the Environmental Assessment is a Finding of No Significant Impact (FONSI) for the proposed licensing action.

II. Supplementary Information

Background

The PMC Lucky Mc former uranium mill site (now a mill tailings site) is licensed by the U.S. Nuclear Regulatory Commission (NRC) under Source Materials License SUA-672 to possess byproduct material in the form of uranium processing waste, such as mill tailings, generated by past uranium processing operations. The PMC Lucky Mc site is located in the Gas Hills region of Freemont County, Wyoming, approximately 72 kilometers (45 miles) east of Riverton, Wyoming. The mill operated from 1958 to 1988 and has been dismantled and disposed of. The site contains three disposal areas (tailings impoundments) and three tailings solution ponds. The license establishes a ground water protection standard at one Point of Compliance (POC) well near the disposal area. This well is used to monitor water quality because hazardous constituents have leached from the milling waste into the upper aquifer.

The ACL application requests that site-specific concentration limits for six hazardous constituents in ground water be granted for the PMC site in place of the current concentration values in the license. The licensee has indicated that the concentration limits required to be met under the licensed corrective action program are not attainable due to the high cost and the influence of mining-impacted water. The ground water at the PMC site and surrounding areas is impacted by open-pit uranium mines having the same constituents as those resulting from the tailings seepage.

PMC also is proposing that the site's Point of Exposure (POE) be established at the long-term care boundary. This boundary encompasses all the land that will be transferred to the U.S. Department of Energy (DOE) for perpetual care of the disposal site when the PMC license is terminated. The POE is the location nearest the site where the public or environment might be exposed to milling impacted ground water, even though such exposure is highly unlikely.

Summary of the Environmental Assessment

The NRC staff performed an appraisal of the environmental impacts associated with the application of ACLs, in accordance with 10 CFR Part 51, Environmental Protection Regulations for Domestic Licensing and Related Regulatory Functions. The license amendment would authorize PMC to apply ACLs to the specified constituents as measured at the POC. The technical aspects of the ACL application are to be discussed separately in a Technical Evaluation Report (TER) that will accompany the agency's final licensing action.

The results of the staff's appraisal of potential environmental impacts are documented in an EA placed in the Publicly Available Records (PARS) component of NRC's document system (ADAMS). Based on its review, the NRC staff has concluded that there are no significant environmental impacts associated with the proposed action.

Alternatives to the Proposed Action

The proposed action is to amend NRC Source Material License SUA-672, to allow application of ACLs to licensed constituents in ground water at the PMC Lucky Mc site. The principal alternatives available to the NRC are to:

1. Approve the license amendment request as submitted; or

2. Amend the license with such additional conditions as are considered necessary or appropriate to protect public health and safety and the environment; or

3. Deny the amendment request.

Based on its review, the NRC staff has concluded that the environmental impacts associated with the proposed action do not warrant either the limiting of PMC's plans necessary for license termination (site is in final stages of decommissioning) or the denial of the license amendment. Therefore, from an environmental impact standpoint, the staff would consider Alternative 1 to be the appropriate alternative for selection. Additionally, the staff has performed a safety review of the licensee's proposal with respect to the ground water criteria specified in 10 CFR 40, Appendix A, and is preparing a TER for this review.

Conclusions

The NRC staff has examined actual and potential impacts associated with implementation of the proposed ACLs, and has determined that the requested amendment of Source Material License SUA-672, authorizing the ACLs, will: (1) Be consistent with requirements of 10 CFR Part 40, Appendix A; (2) not be inimical to the public health and safety; and (3) not have long-term detrimental impacts on the environment. The following statements summarize the conclusions resulting from the staff's environmental assessment, and support the FONSI:

1. An acceptable long-term ground water monitoring program will monitor contaminants to detect if applicable regulatory limits are exceeded. Each of the licensed constituents should remain within the range of background values for 1000 years at the POE.

2. Present and potential health risks to the public and risks of environmental damage from the proposed application of ACLs were assessed. Given the remote location, the expected future land use, the perpetual control by the Federal government of land within the long-term boundary, and the high value of some of the constituents in background ground water due to past uranium mining in the area, the staff determined that the risk factors for health and environmental hazards due to the proposed licensing action are insignificant.

III. Finding of No Significant Impact

The NRC staff has prepared an EA for the proposed amendment of NRC Source Material License SUA-672. On the basis of this assessment, the NRC staff has concluded that the environmental impacts that may result from the proposed action would not be significant, and therefore, preparation of an Environmental Impact Statement is not warranted. Accordingly, a Finding of No Significant Impact is appropriate.

IV. Other Information

The Environmental Assessment to this proposed action is available for inspection at NRC's Public Document Reading Room at http://www.nrc.gov/reading-rm/adams.html (ADAMS Accession Number: ML023470321). Documents may also be examined and/or copied for a fee, at the NRC's Public Document Room, located at One White Flint North, 11555 Rockville Pike, Rockville, MD 20852. Any questions with respect to this action should be referred to Elaine Brummett, Fuel Cycle Facilities Branch, Division of Fuel Cycle Safety and Safeguards, Office of Nuclear Material Safety and Safeguards, U.S. Nuclear Regulatory Commission, Mail Stop T8-A33, Washington, DC 20555-0001. Telephone: (301) 415-6606; Fax: (301) 415-5390.

For the U.S. Nuclear Regulatory Commission.
Dated at Rockville, Maryland, this 13th day of December, 2002.
Daniel M. Gillen,
Chief, Fuel Cycle Facilities Branch, Division of Fuel Cycle Safety and Safeguards, Office of Nuclear Material Safety and Safeguards.

[FR Doc. 02-32079 Filed 12-19-02; 8:45 am]

BILLING CODE 7590-01-P